DEPARTMENT OF AGRICULTURE

Forest Service

Notice of Proposed New Fee; Federal Lands Recreation Enhancement Act, (Title VIII, Pub. L. 108-447)

AGENCY: Dixie National Forest, USDA Forest Service.

ACTION: Notice of proposed new fee.

SUMMARY: The Dixie National Forest is proposing to charge a fee for overnight rental of the Pine Valley Guard Station of $75 in the summer and $40 in the winter. This guard station has not been available for recreation use prior to this date. Rentals of other guard stations on the Dixie National Forest have been very popular, illustrating that people appreciate and enjoy the availability of these historic buildings.

The Pine Valley Guard Station is located at the edge of the Pine Valley Wilderness Area and within the Pine Valley Recreation Area, and will sleep up to six people. The site is located in Washington County, Utah. The guard station will have hot and cold running water in the summer, flush toilet, shower, electricity, refrigerator, and wood stove. Bunks and all cooking and eating utensils will be provided for renters.

Determination of the fee price is based on the level of amenities and services provided, cost of operations and maintenance, market assessment, and public comment. The fee is proposed and will be determined upon further analysis and public comment. Funds from fees would be used for the continued operation and maintenance and improvements of this guard station.

DATES: Comments will be accepted through October 15, 2009. New fees would begin May 2010.

ADDRESSES: Pine Valley Ranger District, Attn: Recreation Fee Program, 196 E. Tabernacle, Suite 38, St. George, Utah 84770 or http://www.fs.fed.us/r4/dixie/contact/feedback.shtml (include “Recreation Fee Program” in the subject line).

FOR FURTHER INFORMATION CONTACT: Gretchen Merrill, Public Service Staff Officer, 435-865-3741. Information about proposed fee changes can also be found on the Intermountain Region Web site: http://www.fs.fed.us/r4/recreation/rac/index.shtml.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Dated: August 19, 2009.
Robert G. MacWhorter,
Forest Supervisor.

[FR Doc. E9-20853 Filed 8-31-09; 8:45 am]

BILLING CODE 3410-11-M